DEPARTMENT OF ENERGY

Federal Energy Regulatory Commission

Combined Notice of Filings #1

Take notice that the Commission received the following exempt wholesale generator filings:

Docket Numbers: EG26-115-000.

Applicants: Chula Vista Energy Center 2, LLC.

Description: Chula Vista Energy Center 2, LLC submits Notice of Self-Certification of Exempt Wholesale Generator Status.

Filed Date: 12/22/25.

Accession Number: 20251222-5187.

Comment Date: 5 p.m. ET 1/12/26.

Take notice that the Commission received the following electric rate filings:

Docket Numbers: ER11-3407-009; ER23-9-001; ER23-691-001; ER23-692-001.

Applicants: Hecate Energy Albany 2 LLC, Hecate Energy Albany 1 LLC, Doc Brown LLC, Howard Wind LLC.

Description: Supplement to 06/30/2023, Triennial Market Power Analysis for Northeast Region of Howard Wind, LLC, et al.

Filed Date: 12/18/25.

Accession Number: 20251218-5214.

Comment Date: 5 p.m. ET 1/8/26.

Docket Numbers: ER19-90-011.

Applicants: Clean Energy Future—Lordstown, LLC.

Description: Compliance filing: Settlement Compliance Filing to be effective 4/4/2025.

Filed Date: 12/22/25.

Accession Number: 20251222-5199.

Comment Date: 5 p.m. ET 1/12/26.

Docket Numbers: ER25-482-001.

Applicants: National Grid Generation LLC.

Description: Compliance filing: A&R PSA Amendment No. 6, Compliance Filing to be effective 1/1/2025.

Filed Date: 12/22/25.

Accession Number: 20251222-5161.

Comment Date: 5 p.m. ET 1/12/26.

Docket Numbers: ER26-496-001.

Applicants: Energy Prepay X, LLC.

Description: Tariff Amendment: Deficiency Filing to 1 to be effective 11/13/2025.

Filed Date: 12/19/25.

Accession Number: 20251219-5562.

Comment Date: 5 p.m. ET 1/9/26.

Docket Numbers: ER26-576-001.

Applicants: Energy Prepay XI, LLC.

Description: Tariff Amendment: Deficiency Filing to 1 to be effective 11/22/2025.

Filed Date: 12/19/25.

Accession Number: 20251219-5582.

Comment Date: 5 p.m. ET 1/9/26.

Docket Numbers: ER26-797-000.

Applicants: EdSan 2 Solar Storage, LLC.

Description: Supplement to 12/17/2025 EdSan 2 Solar Storage, LLC tariff filing.

Filed Date: 12/18/25.

Accession Number: 20251218-5371.

Comment Date: 5 p.m. ET 1/7/26.

Docket Numbers: ER26-847-000.

Applicants: Alabama Power Company, Georgia Power Company, Mississippi Power Company.

Description: 205(d) Rate Filing: Alabama Power Company submits tariff filing per 35.13(a)(2)(iii: Shubuta Creek Solar Second Amended and Restated LGIA Filing to be effective 12/16/2025.

Filed Date: 12/17/25.

Accession Number: 20251217-5367.

Comment Date: 5 p.m. ET 1/7/26.

Docket Numbers: ER26-848-000.

Applicants: PJM Interconnection, L.L.C.

Description: 205(d) Rate Filing: Amendment to ISA No. 6235 & ICSA No. 6236; Queue No. AE2-342 to be effective 2/21/2026.

Filed Date: 12/22/25.

Accession Number: 20251222-5154.

Comment Date: 5 p.m. ET 1/12/26.

Docket Numbers: ER26-849-000.

Applicants: IP Aramis, LLC.

Description: Initial Rate Filing: Application for Market Based Rate to be effective 1/1/2026.

Filed Date: 12/22/25.

Accession Number: 20251222-5165.

Comment Date: 5 p.m. ET 1/12/26.

Docket Numbers: ER26-850-000.

Applicants: IP Easley, LLC.

Description: Initial Rate Filing: Application for Market Based Rate to be effective 1/1/2026.

Filed Date: 12/22/25.

Accession Number: 20251222-5166.

Comment Date: 5 p.m. ET 1/12/26.

Docket Numbers: ER26-851-000.

Applicants: IP Easley II, LLC.

Description: Initial Rate Filing: Application for Market Based Rate to be effective 1/1/2026.

Filed Date: 12/22/25.

Accession Number: 20251222-5167.

Comment Date: 5 p.m. ET 1/12/26.

Docket Numbers: ER26-852-000.

Applicants: PJM Interconnection, L.L.C.

Description: 205(d) Rate Filing: Wind and Solar Dispatch Enhancements Proposal to be effective 3/24/2025.

Filed Date: 12/22/25.

Accession Number: 20251222-5197.

Comment Date: 5 p.m. ET 1/12/26.

Docket Numbers: ER26-853-000.

Applicants: Commonwealth Edison Company.

Description: 205(d) Rate Filing: Filing of TSA between ComEd and Karis to be effective 2/21/2026.

Filed Date: 12/22/25.

Accession Number: 20251222-5229.

Comment Date: 5 p.m. ET 1/12/26.

Docket Numbers: ER26-854-000.

Applicants: Pacific Gas and Electric Company.

Description: Notice of Termination of Interconnection Agreement of Pacific Gas and Electric Company.

Filed Date: 12/18/25.

Accession Number: 20251218-5373.

Comment Date: 5 p.m. ET 1/8/26.

Docket Numbers: ER26-855-000.

Applicants: PJM Interconnection, L.L.C.

Description: Tariff Amendment: Notice of Cancellation of CSA, SA No. 5661; AC1-042 to be effective 2/21/2026.

Filed Date: 12/22/25.

Accession Number: 20251222-5235.

Comment Date: 5 p.m. ET 1/12/26.

Docket Numbers: ER26-856-000.

Applicants: PJM Interconnection, L.L.C.

Description: 205(d) Rate Filing: Amendment to ISA, Service Agreements No. 5258; Queue No. AC1-085 to be effective 2/21/2026.

Filed Date: 12/22/25.

Accession Number: 20251222-5254.

Comment Date: 5 p.m. ET 1/12/26.

Docket Numbers: ER26-857-000.

Applicants: PJM Interconnection, L.L.C.

Description: 205(d) Rate Filing: Original NSA Service Agreement No. 7795; Queue No. AF2-039/AF2-088 to be effective 2/21/2026.

Filed Date: 12/22/25.

Accession Number: 20251222-5268.

Comment Date: 5 p.m. ET 1/12/26.

Docket Numbers: ER26-858-000.

Applicants: Chula Vista Energy Center 2, LLC.

Description: Initial Rate Filing: Application for Market Based Rate to be effective 2/1/2026.

Filed Date: 12/22/25.

Accession Number: 20251222-5272.

Comment Date: 5 p.m. ET 1/12/26.

Docket Numbers: ER26-859-000.

Applicants: Invenergy Grid Midwest LLC.

Description: 205(d) Rate Filing: 2025-12-22 Invenergy Grid Midwest Baseline Formula Rate Filing to be effective 3/7/2026.

Filed Date: 12/22/25.

Accession Number: 20251222-5278.

Comment Date: 5 p.m. ET 1/12/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: December 22, 2025.
Carlos D. Clay,
Deputy Secretary.

[FR Doc. 2025-23975 Filed 12-29-25; 8:45 am]

BILLING CODE 6717-01-P